NATIONAL COMMISSION ON LIBRARIES AND INFORMATION SCIENCE

Notice of Meetings

AGENCY: National Commission on Libraries and Information Science (NCLIS).

ACTION: Notice of Meetings.

Summary: The U.S. National Commission on Libraries and Information Science is also holding a closed meeting to discuss consolidation and staffing issues. Closing this meeting is in accordance with the exemption provided under Title 45, CFR, Part 1703.202(a)(9).

Date and Time: NCLIS Closed Meeting—August 14, 9—10 a.m.

Address: West Dining Room (Madison Building), Library of Congress, 101 Independence Avenue, SE., Washington, DC 20540-1099.

Status: Closed meeting.

Summary: The U.S. National Commission on Libraries and Information Science is holding an open business meeting to discuss Commission programs and administrative matters. Commissioners will review programs related to the Commission's strategic initiatives. Each of the Commission's task forces will share progress reports and the Commission will discuss future directions and activities. Topics will include (1) Policy Issues (Net Neutrality, E-ate, EPA); (2) Education Achievement/School Libraries, Battle of the Books; (3) School Librarian of the Year; (4) Appraisal/Assessment Initiative; (5) the White House Conference on Aging; (6) Emergency Preparedness and Disaster Response.

Date and Time: NCLIS Business Meeting—August 14, 2006, 10 p.m.-3:15 p.m.; August 15, 2006, 9 a.m.-1 p.m.

Address: West Dining Room (Madison Building), Library of Congress, 101 Independence Avenue, SE., Washington, DC 20540-1099.

Status: Open meeting.

Supplementary Information: The business meeting is open to the public, subject to space availability. To make special arrangements for physically challenged persons, contact Madeleine McCain, Director of Operations, 1800 M Street, NW., Suite 350 North Tower, Washington, DC 20036, e-mail mmccain@nclis.gov, fax 202-606-9203 or telephone 202-606-9200.

For Further Information Contact: Madeleine McCain, Director of Operations, U.S. National Commission on Libraries and Information Science, 1800 M Street, NW., Suite 350 North Tower, Washington, DC 20036, e-mail mmccain@nclis.gov, fax 202-606-9203 or telephone 202-606 9200.

Dated: August 1, 2006.
Madeleine C. McCain,
NCLIS Director of Operations.

[FR Doc. E6-12766 Filed 8-4-06; 8:45 am]

BILLING CODE 7528-01-P